DEPARTMENT OF JUSTICE

Office of Justice Programs

[OJP (NIJ) Docket No. 1564]

Vehicular Digital Multimedia Evidence Recording System (VDMERS) Standard, Certification Program Requirements, and Selection and Application Guide

AGENCY: National Institute of Justice, Justice.

ACTION: Notice and Request for Comments.

SUMMARY: In an effort to obtain comments from interested parties, the U.S. Department of Justice, Office of Justice Programs, National Institute of Justice (NIJ) will make available to the general public three draft documents related to Vehicular Digital Multimedia Evidence Recording Systems (VDMERSs) used by law enforcement agencies:

1. Draft VDMERS Standard for Law Enforcement.

2. Draft Law Enforcement VDMERS Certification Program Requirements.

3. Draft Law Enforcement VDMERS Selection and Application Guide.

The opportunity to provide comments on these documents is open to industry technical representatives, law enforcement agencies and organizations, research, development and scientific communities, and all other stakeholders and interested parties. Those individuals wishing to obtain and provide comments on the draft documents under consideration are directed to the following Web site: http://www.justnet.org.

DATES: The comment period will be open until September 21, 2011.

FOR FURTHER INFORMATION CONTACT: Casandra Robinson, by telephone at 202-305-2596 [Note: this is not a toll-free telephone number], or by e-mail at casandra.robinson@usdoj.gov.

Thomas E. Feucht,
Executive Senior Science Advisor, National Institute of Justice.

[FR Doc. 2011-21347 Filed 8-19-11; 8:45 am]

BILLING CODE 4410-18-P